DEPARTMENT OF COMMERCE

National Oceanic and Atmospheric Administration

50 CFR Part 648

[Docket No. 140117052-4402-02]

RIN 0648-XE096

Fisheries of the Northeastern United States; Atlantic Bluefish Fishery; Quota Transfer

AGENCY: National Marine Fisheries Service (NMFS), National Oceanic and Atmospheric Administration (NOAA), Commerce.

ACTION: Temporary rule; quota transfer.

SUMMARY: NMFS approves the transfer of 2015 commercial Atlantic bluefish quota from the State of North Carolina and the Commonwealth of Virginia to the State of Rhode Island. These transfers comply with the Bluefish Fishery Management Plan quota transfer provisions, specified in federal regulations. This announcement also informs the public of the revised commercial quota for each state involved.

DATES: Effective September 1, 2015, through December 31, 2015.

FOR FURTHER INFORMATION CONTACT: Reid Lichwell, Fishery Management Specialist, (978) 281-9112.

SUPPLEMENTARY INFORMATION: Regulations governing the bluefish fishery are found at 50 CFR part 648. The regulations require annual specification of a commercial quota that is apportioned among the coastal states from Florida through Maine. The process to set the annual commercial quota and the percent allocated to each state are described in § 648.162.

The final rule implementing Amendment 1 to the Bluefish Fishery Management Plan published in the Federal Register on July 26, 2000 (65 FR 45844), provided a mechanism for transferring bluefish quota from one state to another. Two or more states, under mutual agreement and with the concurrence of the Administrator, Greater Atlantic Region, NMFS (Regional Administrator), can transfer or combine bluefish commercial quota under § 648.162(e). The Regional Administrator is required to consider the criteria in § 648.162(e) in the evaluation of requests for quota transfers or combinations.

North Carolina has agreed to transfer 100,000 lb (45,359 kg), and Virginia 50,000 lb (22,680 kg) of their 2015 commercial bluefish quotas to Rhode Island. This transfer was requested by state officials in Rhode Island to ensure their commercial bluefish quota is not exceeded. The Regional Administrator has determined that the criteria set forth in § 648.162(e)(1) are met and approves these transfers. The revised bluefish quotas for calendar year 2015 are: North Carolina, 1,380,371 lb (626,126 kg); Virginia, 422,629 lb (191,701 kg); and Rhode Island 506,826 lb (229,892 kg), based on quota defined in the final 2015 Atlantic Bluefish Specifications (80 FR 46848, published on August 6, 2015).

Classification

This action is taken under 50 CFR part 648 and is exempt from review under Executive Order 12866.

Authority: 16 U.S.C. 1801 et seq.

Dated: August 27, 2015.
Alan D. Risenhoover,
Director, Office of Sustainable Fisheries, National Marine Fisheries Service.

[FR Doc. 2015-21638 Filed 9-1-15; 8:45 am]

BILLING CODE 3510-22-P